DEPARTMENT OF COMMERCE

National Oceanic and Atmospheric Administration

Announcement of Weeks Bay National Estuarine Research Reserve Revised Management Plan Including a Boundary Expansion

AGENCY: Estuarine Reserves Division, Office of Ocean and Coastal Resource Management, National Ocean Service, National Oceanic and Atmospheric Administration, U.S. Department of Commerce.

ACTION: Notice of Approval and Availability of the Final Revised Management Plan for the Weeks Bay National Estuarine Research Reserve.

SUMMARY: Notice is hereby given that the Estuarine Reserves Division, Office of Ocean and Coastal Resource Management, National Ocean Service, National Oceanic and Atmospheric Administration (NOAA), U.S. Department of Commerce has approved the revised management plan, which includes an expansion of the boundary of the reserve, for the Weeks Bay National Estuarine Research Reserve.

The Weeks Bay Reserve was designated in February 1986 pursuant to Section 315 of the Coastal Zone Management Act of 1972, as amended, 16 U.S.C. 1461. The reserve has been operating under a management plan approved in 1998. Pursuant to 15 CFR Section 921.33(c), a state must revise their management plan every five years. The submission of this plan fulfills this requirement and sets a course for successful implementation of the goals and objectives of the reserve.

The mission of the Weeks Bay Reserve is to provide leadership to promote informed management of estuarine and coastal habitats through scientific understanding and encourage good stewardship practices through partnerships, public education, and outreach programs. The management plan establishes three goals consistent with the reserve's mission. These goals are (1) protect and improve habitat and biological diversity within the boundary of the Reserve, (2) improve decisions affecting estuarine and coastal resources, and (3) promote education, stewardship, and scientific research focusing on estuarine ecosystems. Organized in a framework of programmatic goals and objectives, the Weeks Bay Reserve's management plan identifies specific strategies or actions for research, education/interpretation, public access, construction, acquisition, and resource protection, restoration, and manipulation. Overall, the plan seeks to accomplish the mission of the reserve by facilitating scientific research, encouraging stewardship, and addressing the local education and outreach needs.

Specifically, stewardship is encompassed under resource protection, habitat restoration, and resource manipulation plans. These plans address reserve efforts to evaluate natural and anthropogenic processes that affect the reserve and its habitats, support for research and monitoring of important resources, restore and protect natural habitats and to actively educate the public to inform resource management.

Research and monitoring support independent research projects within the reserve and its vicinity with resources and background data. Staff and visiting researchers conduct monitoring and research within the boundaries of the reserve and Weeks Bay watershed and use GIS to map critical habitats. Research and monitoring results are made available to others and is translated to public and private users through education, training and outreach programs.

Education at the reserve targets a wide variety of audiences including students, teachers, adults, resource users and coastal decision-maker audiences. The reserve's comprehensive approach to education including a K-12 education program, outreach and a coastal training program are designed to increase knowledge of the target audiences about Alabama estuaries.

Public access at Weeks Bay Reserve includes improving and enhancing water access to facilitate the implementation of reserve programs. Also, the reserve will reduce impacts on natural resources and maximize public outreach by designating specific areas (i.e., boardwalks) and create guidelines for public access.

Administration at the reserve includes supporting the staffing and budget necessary to carry out the goals and objectives of the plan. The administration of the Weeks Bay Reserve is a collective effort involving the Alabama Department of Conservation and Natural Resources (ADCNR), other state or local agencies and organizations, and the Reserve Advisory Committee. An established administrative framework implements and coordinates Reserve programs under the plan.

The boundary expansion incorporates adjacent state-owned coastal and submerged lands within the Weeks Bay Coastal Area. Incorporating these lands increases the size of the reserve from 6,192 acres to 6,525 acres. The expansion provides a broader and more representative diversity of wetland and water habitats found within the old boundary of the reserve. Habitats within the new boundary of the reserve include tidal freshwater riverine, emergent and forested wetland communities.

FOR FURTHER INFORMATION CONTACT: Matthew J. Chasse at (301) 563-1198 or Laurie McGilvray at (301) 563-1158 of NOAA's National Ocean Service, Estuarine Reserves Division, 1305 East-West Highway, N/ORM5, 10th floor, Silver Spring, MD 20910.

Dated: June 6, 2007.
David M. Kennedy,
Director, Office of Ocean and Coastal Resource Management, National Oceanic and Atmospheric Administration.

[FR Doc. E7-11443 Filed 6-13-07; 8:45 am]

BILLING CODE 3510-08-P